GENERAL SERVICES ADMINISTRATION

[Notice PBS-2018-12; Docket No. 2018-0002; Sequence No. 31]

Notice of Availability and Announcement of Public Meeting for the Draft Environmental Assessment for the Edward J. Schwartz Federal Building Structural Enhancements Project in San Diego, California

AGENCY: Public Buildings Service (PBS), General Services Administration (GSA).

ACTION: Notice of availability; announcement of public meeting.

SUMMARY: This notice announces the availability, and opportunity for public review and comment, of a Draft Environmental Assessment (EA), which examines the potential impacts of a proposal by GSA to provide structural enhancement improvements to the existing Edward J. Schwartz Federal Building and United States Courthouse. The Draft EA describes the reason the project is being proposed; the alternatives being considered; the potential impacts of each of the alternatives on the existing environment; and the proposed avoidance, minimization, and/or mitigation measures related to those alternatives.

DATES: A public meeting for the Draft EA will be held on Wednesday, November 28, 2018, from 4:00 p.m. to 7:00 p.m., Pacific Standard Time. Interested parties are encouraged to attend and provide written comments on the Draft EA.

The comment period for the Draft EA ends on December 17, 2018.

ADDRESSES: The public meeting will be held at 704 J Street, San Diego, California, 92101. Further information, including an electronic copy of the Draft EA, may be found online on the following website: https://www.gsa.gov/about-us/regions/welcome-to-the-pacific-rim-region-9/buildings-and-facilities/california/edward-j-schwartz-federal-office-building#CurrentProjects. Questions or comments concerning the Draft EA should be directed to: Osmahn Kadri, Regional Environmental Quality Advisor/NEPA Project Manager, 50 United Nations Plaza, 3345, Mailbox #9, San Francisco, CA, 94102, or via email to osmahn.kadri@gsa.gov.

FOR FURTHER INFORMATION CONTACT: Osmahn Kadri, Regional Environmental Quality Advisor/NEPA Project Manager, GSA, at 415-522-3617. Please also call this number if special assistance is needed to attend and participate in the public meeting.

SUPPLEMENTARY INFORMATION:

Background

The Project is proposed in order to improve structural safety for the public traveling underneath the building and for the tenants occupying the building above the Front Street underpass, located at 8800 Front Street in San Diego, California. The portion of Front Street that extends below the Schwartz FOB is referred to as the Front Street underpass. The existing building has five stories of federal office building space spanning above the roadway and two levels of parking structure beneath the roadway.

The EA will consider one Action Alternative and one No Action Alternative. The Action Alternative would consist of structural enhancement improvements to the portion of the existing Edward J. Schwartz Federal Building over Front Street between E and F streets. Existing columns and beams supporting the building at the Front Street underpass would be reinforced with new steel beams and column support structures and pre-cast concrete paneling. Construction would require full and partial closure of Front Street between Broadway and F Street. Street closure options during construction of the Action Alternative are being considered and a comprehensive Traffic Control Plan will be prepared to address the street closure.

The No Action Alternative assumes that structural enhancements to the existing building would not occur.

Public Meeting

The public meeting will be conducted in open house format, where project information will be presented and distributed. Comments must be received by December 17, 2018, and emailed to osmahn.kadri@gsa.gov, or sent to the address listed above.

Dated: November 8, 2018.
Matthew Jear,
Director, Portfolio Management Division, Pacific Rim Region, Public Buildings Service.

[FR Doc. 2018-25220 Filed 11-16-18; 8:45 am]

BILLING CODE 6820-YF-P